DEPARTMENT OF JUSTICE

Office of Justice Programs

Agency Information Collection Activities: Proposed Collection; Comments Requested

ACTION: 30-day notice of information collection under review: New, Mental Health and Juvenile Justice: Building a Model for Effective Service Delivery.

The Department of Justice (DOJ), Office of Justice Programs has submitted the following information collection request to the Office of Management and Budget (OMB) for review and approval in accordance with the Paperwork Reduction Act of 1995. The proposed information collection is published to obtain comments from the public and affected agencies. This proposed information collection was previously published in the Federal Register, Volume 67, Number 120, page 42283 on June 21, 2002, allowing for a 60 day comment period.

The purpose of this notice is to allow for an additional 30 days for public comment until October 25, 2002. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-7285.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New.

(2) Title of the Form/Collection: Mental Health and Juvenile Justice: Building a Model for Effective Service Delivery.

(3) Agency form number, if any, and the applicable component of the Department of Justice sponsoring the collection: Form Number: OJP Form 1121 Office of Juvenile Justice and Delinquency Prevention, United States Department of Justice.

(4) Affected public who will be asked or required to respond, as well as a brief abstract: Primary: Individuals or Households; State and Local Government. This study is designed to examine: (1) The mental health status of youth in selected facilities and programs; (2) the availability of mental health and related substance abuse services for these youth; (3) the extent to which needed services are services are received by the youth; and (4) the level of youth and family satisfaction with services received.

(5) An estimate of the total number of respondents and the amount of time estimated for an average respondent to respond: It is estimated that approximately 2,700 youth will complete the Massachusetts Youth Screening Instrument—Second Version (MAYSI-2) which takes 6-10 minutes to administer. In addition, a brief youth survey on service utilization and satisfaction, including some demographic items, will be administered to all study participants with the MAYSI. This survey will take no more than 15 minutes to administer. The Voice Diagnostic Interview Schedule for Children Version 4 (V-DISC 4) will be administered to 50% of those completing the MAYSI-2 interview. The V-DISC 4 takes about 1 hour to administer. We anticipate a total of 24 participants in the family focus groups and 45 key staff interviews. It is anticipated that the focus groups will take approximately 2 hours each, and the key staff interviews will take 45 minutes each.

(6) An estimate of the total public burden (in hours) associated with the collection: The estimated total burden to complete all data collection activities is estimated to be 2,556.75 hours.

If additional information is required contact: Mrs. Brenda E. Dyer, Deputy Clearance Officer, United States Department of Justice, Information Management and Security Staff, Justice Management Division, Suite 1600, Patrick Henry Building, 601 D Street NW., Washington, DC 20530.

Dated: September 19, 2002.
Brenda E. Dyer,
Department Deputy Clearance Officer, Department of Justice.

[FR Doc. 02-24312 Filed 9-24-02; 8:45 am]

BILLING CODE 4410-18-M